DEPARTMENT OF JUSTICE

Notice of Lodging Proposed Consent Decree

In accordance with Departmental Policy, 28 CFR 50.7, notice is hereby given that a proposed Consent Decree in United States v. Richardson M. Roberts and Bucksnort R.R. Ranch, LLC, Civil Action No. 3:09-812, was lodged with the United States District Court for the Middle District of Tennessee on May 23, 2014.

The proposed Consent Decree concerns an amended complaint filed by the United States against Richardson M. Roberts and Bucksnort R.R. Ranch, LLC, to obtain injunctive relief and civil penalties from the defendants for violating sections 301 and 404 of the Clean Water Act, 33 U.S.C. 1311 and 1344. The proposed Consent Decree resolves these allegations by requiring the defendants to perform restoration work, conserve riparian areas, provide funding to benefit water quality in the Lower Duck River watershed, and pay a civil penalty.

The Department of Justice will accept written comments relating to the proposed Consent Decree for thirty (30) days from the date of publication of this Notice. Please address comments to Andrew J. Doyle, Trial Attorney, United States Department of Justice, Environment and Natural Resources Division, Post Office Box 7611, Washington, DC 20044-7611 and refer to United States v. Richardson M. Roberts and Bucksnort R.R. Ranch, LLC, DJ #90-5-1-1-18184.

The proposed Consent Decree may be examined at the Clerk's Office, United States District Court for the Middle District of Tennessee, 801 Broadway, Room 800, Nashville, TN 37203. In addition, the proposed Consent Decree may be examined electronically at http://www.justice.gov/enrd/Consent_Decrees.html.

Cherie L. Rogers,
Assistant Section Chief, Environmental Defense Section, Environment and Natural Resources Division.

[FR Doc. 2014-12698 Filed 5-30-14; 8:45 am]

BILLING CODE 4410-15-P